DEPARTMENT OF THE INTERIOR

National Park Service

Final Environmental Impact Statement Fire Management Plan; Yosemite National Park; Madera, Mariposa and Tuolumne Counties, CA; Notice of Availbility

SUMMARY: Pursuant to section 102(2)(C) of the National Environmental Policy Act of 1969 (Pub. L. 91-190, as amended), and the Council on Environmental Quality Regulations (40 CFR part 1500-1508), the National Park Service, Department of the Interior, has prepared a Final Environmental Impact Statement identifying and evaluating four alternatives for a Fire Management Plan for Yosemite National Park. Potential impacts, and appropriate mitigations, are assessed for each alternative. When approved, the plan will guide all future fire management actions in Yosemite National Park. The Yosemite Fire Management Plan and Final Environmental Impact Statement (YFMP/FEIS) documents the analyses of three action alternatives, and a “no action” alternative.

An updated fire management program is needed to meet public safety, natural and cultural resource management, and wildland/urban interface protection objectives, in Yosemite National Park and the El Portal Administrative Site. The action alternatives vary in their schedule for completing ecosystem restoration and wildland/urban interface community protection work, and in their mix of treatments available for completing work. The “no action” alternative describes the existing fire management program, which has been locally effective but unable to restore large areas of the park and administrative site to natural conditions or to keep more areas from progressing to the point of needing restoration. As a result, incidence of catastrophic fire has increased in recent decades.

Proposed Fire Management Plan: Under Alternative D, the Multiple Action Alternative, aggressive treatment strategies would be used in and near wildland/urban interface communities (homes, businesses, and administrative buildings) if needed, while achieving ecosystem restoration goals in other areas by using prescribed fire and wildland fire. The Multiple Action Alternative would decrease fuels in wildland/urban interface areas over a period of 6-8 years and restore fire to park ecosystems in 15-20 years; and would reduce fuels an average of 1,095 acres per year in the wildland/urban interface (6,425 acres total) and would restore the natural fire regime by treating between 1,817 and 9,194 acres per year (31,503 to 160,894 acres total). The diameter limit for thinning of live trees has been reduced from 31.5″; (in the draft EIS) to 20″ in the final EIS, based on public responses received during the comment period. The area within which mechanical thinning would occur to reduce the threat of wildland fire and to restore more natural forest conditions was clarified in the final EIS to exclude Wilderness and to be limited to a ¼ mile wide zone around six wildland urban interface communities. This alternative would require more time to accomplish wildland/urban interface protection and ecosystem restoration than under Alternative B, Aggressive Action Alternative, but less than under Alternative A, No Action, and C, Passive Action Alternative. It would accomplish the work with a combination of NPS and other agency fire crews, the park forestry crew, and contract labor. As documented in the final EIS, this was also deemed to be the “Environmentally Preferred” Alternative.

Alternatives: Under the “no action” alternative (Alternative A), the existing direction and level of accomplishment in Yosemite's fire management program would continue. This alternative would use the strategies of the existing Fire Management Plan, written in 1990. These strategies include prescribed fire, management of natural ignitions (wildland fire used for resource benefits), fire suppression, and hand cutting followed by pile burning and prescribed fire. This program does not place emphasis on wildland/urban interface communities. The Fire Management Units for this alternative are the same as the “zones” used in the 1990 plan: Zone I—Prescribed Natural Fire Zone; Zone II—Conditional Fire Zone; and Zone III—Suppression Zone. Under this program the park has averaged 1,472 acres of prescribed burning and 2,567 acres of managed wildland fire each year. This does not approach the annual target of 16,000 acres that would need to burn annually to simulate natural conditions. While over the last decade the park has reduced hazardous fuel levels near developed areas, the goal of providing an open defensible forest in and around every community may not ever be met at the current rate of work, using the current techniques.

Under Alternative B, aggressive efforts would be taken to reduce fuels in and near developed areas (wildland/urban interface communities) within a period of five years and accomplish fire-related ecosystem restoration goals within 10-15 years. This alternative would reduce fuels on an average of 1,285 acres per year in the wildland/urban interface over five years (6,425 acres total) and restore the natural fire regime to between 2,520 and 12,872 acres per year, for a total of between 31,503 and 160,894 acres over the next 10-15 years. Prescribed burning would be increased dramatically over present levels and lightning fires would be managed where practicable. Smoke emissions would be the greatest among the four alternatives. Work under this alternative would apply aggressive fuel reduction treatments to wildland/urban interface areas and accomplish park restoration goals in the least amount of time compared to the other alternatives. Median and maximum fire return interval departure analyses were used to determine locations and set annual goals (range of acres) for treatments, using the various restoration, maintenance, and fuel reduction strategies.

Under Alternative C, the Passive Action Alternative, efforts would be taken to decrease fuels in wildland/urban interface areas within a period of 10 years, and accomplish ecosystem restoration goals in 25 years. Alternative C would reduce fuels in wildland/urban interface areas by an average of 766 acres per year (6,425 acres total over 10 years), and the fire regime would be restored in areas having missed three or more fire return intervals by treating between 1,260 and 6,436 acres per year (31,503 to 160,894 acres over 25 years). Prescribed burning would be increased over what the current program accomplished but not as much as under Alternative B and D. Fuel reduction work under this alternative would apply less aggressive treatments to wildland/urban interface areas. Under this alternative, it would take more time than under Alternative B and the proposed action, but less than would be needed under Alternative A to accomplish the park's minimum goals. By the time all areas were treated, however, many areas would have missed more fire return intervals; thus, the risk of stand replacement fire would remain high in some areas for a longer period. The basis for the difference in annual accomplishment, when comparing alternatives, is the time frame proposed for reaching the restoration targets and the type of treatments allowed. Because of this time frame, the number of acres to be treated each year under Alternative C would be the least among the action alternatives.

Planning Background: Early preliminary scoping for the YFMP/FEIS was initiated in April 1999. A Notice of Intent was published in the Federal Register on March 20, 2001; public scoping comments were accepted until April 30, 2001. One planning meeting was held in Yosemite Valley. During this scoping period, the NPS held discussions and briefings with: Local communities; local residents and home owners associations (Forest, Wawona, Yosemite West, and El Portal); local, regional and state fire organizations; air quality regulators; other agency representatives; park staff, elected officials; public service organizations; and other interested members of the public. The major issues raised during this period are summarized in Chapter 1, Purpose of and Need for the Action.

The distribution of draft EIS and YFMP began during May, 2002. A notice of availability of the draft document was published in the Federal Register on June 18, 2002; it was available for public review and comment through August 27, 2002. In order to facilitate public review and understanding of the proposed plan, public open houses were held during July, 2002 in Oakhurst, Mariposa, Sonora, and Mammoth Lakes, and on three occasions (in June, July and August) in Yosemite Valley. The NPS received approximately 143 written responses. All of these comments were duly considered in preparing the YFMP/FEIS. All comments obtained are preserved in the administrative record.

The main issues and concerns expressed by the respondents included: the thinning of trees up to 31.5″ in diameter should not occur; mechanical thinning of trees to reduce wildland fire hazard and to restore more natural stand densities should only occur near wildland urban interface communities; no roads be constructed to remove mechanically thinned trees; that mechanical removal of trees should not occur in Wilderness; and that the park should not try to recreate forest stand compositions or densities to match a specific point in the past.

ADDRESSES: Copies of the YFMP/FEIS may be obtained from the Superintendent, Yosemite National Park, P.O. Box 577, Yosemite, CA 95389, Attn: Fire Management Plan, or by email request to: Yose_Planning@nps.gov (in the subject line, type: Fire Management Plan). The YFMP/FEIS will be sent directly to those who have requested it. In addition, the document is to be posted on the Internet at the park's Web page (http://www.nps.gov/yose/planning), and it will also be available at local and regional libraries.

Decision: As a delegated EIS, the official responsible for the final decision is the Regional Director, Pacific West Region; a Record of Decision may be approved by the Regional Director not sooner than 30 days after EPA's publication of the notice of filing of the Final FMP/EIS in the Federal Register. Notice of the final decision will be also posted in the Federal Register. Following approval of the Fire Management Plan, the official responsible for implementation will be the Superintendent, Yosemite National Park.

Dated: March 26, 2004.
Jonathan B. Jarvis,
Regional Director, Pacific West Region.

[FR Doc. 04-9797 Filed 4-29-04; 8:45 am]

BILLING CODE 4312-FY-P